DEPARTMENT OF THE INTERIOR

Bureau of Land Management

[UTU 6443, UTU 012532, and UTU 0146037]

Public Land Order No. 7708; Partial Revocation of Public Land Order Nos. 1391, 4060, and 4567; Utah; Correction

AGENCY: Bureau of Land Management, Interior.

ACTION: Correction.

SUMMARY: This action corrects an error in the land description published as FR Doc. E8-12424 in the Federal Register, 73 FR 31880-31881, June 4, 2008.

On page 31881, column 1, line 13 from the top, which reads “Salt Lake Meridian” is hereby corrected to read “Uintah Special Meridian”.

On page 31881, below “b. Hawthorne Campground,” column 1, line 20 from the top, and above “T. 8 S., R. 5 E.,” column 1, line 21 from the top, insert “Salt Lake Meridian”.

Dated: August 20, 2008.
Jeff Rawson,
Associate State Director.

[FR Doc. E8-20886 Filed 9-8-08; 8:45 am]

BILLING CODE 3410-11-P